DEPARTMENT OF THE INTERIOR

National Park Service

[NPS-WASO-NRNHL-16235; PPWOCRADI0, PCU00RP14.R50000]

National Register of Historic Places; Notification of Pending Nominations and Related Actions

Nominations for the following properties being considered for listing or related actions in the National Register were received by the National Park Service before July 12, 2014. Pursuant to § 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by August 19, 2014. Before including your address, phone number, email address, or other personal identifying information in your comment, you should be aware that your entire comment—including your personal identifying information—may be made publicly available at any time. While you can ask us in your comment to withhold your personal identifying information from public review, we cannot guarantee that we will be able to do so.

Dated: July 17, 2014.
J. Paul Loether,
Chief, National Register of Historic Places/National Historic Landmarks Program.

IDAHO

Canyon County

Mercy Hospital, 1615 8th St., S., Nampa, 14000504

ILLINOIS

Cook County

Oak Park Village Hall, 123 Madison St., Oak Park, 14000505

Lake County

Hall, David, House, 25420 W. Cedar Crest Ln., Lake Villa, 14000506

Madison County

Glen Carbon Grade School, 124 School St., Glen Carbon, 14000507

Marshall County

Marshall Site, (Native American Rock Art Sites of Illinois MPS) Address Restricted, Chillicothe, 14000508

Morgan County

Jacksonville Historic District (Additional Documentation, Boundary Increase), Roughly bounded by Grand, Elm, Dunlap & Chambers, Jacksonville, 14000509

Sangamon County

Great Western Railroad Depot, 930 E. Monroe St., Springfield, 14000510

Whiteside County

Morrison Main Street Historic District, Roughly between Orange & Madison Sts., Lincolnway, UPRR, Morrison, 14000511

MICHIGAN

Oakland County

First Methodist Episcopal Church of Farmington, 33112 Grand River Ave., Farmington, 14000512

Wayne County

Dearborn City Hall Complex, 13615 Michigan Ave., Dearborn, 14000513

Pilgrim and Puritan Apartment Complex, 9303-9333 E. Jefferson Ave., Detroit, 14000514

NEW JERSEY

Burlington County

High Street Historic District (Boundary Increase), 6 W. Pearl St., Burlington, 14000515

Cape May County

Foster, Judge Nathaniel, House, 1649 Bayshore Dr., Lower Township, 14000516

NORTH CAROLINA

Craven County Craven Terrace, 601 Roundtree St.,

New Bern, 14000517

Edgecombe County

Savage, William and Susan, House, 704 NC 97 E., Leggett, 14000518

Forsyth County

Waller House, 9186 Reynolda Rd., Pfafftown, 14000519

Guilford County

Carolina Cadillac Company Building, 304 E. Market St., Greensboro, 14000520

Harnett County

Harnett County Training School, 610 E. Johnson St., Dunn, 14000521

Sampson County

Bullard, Thomas, House, (Sampson County MRA) 386 Carry Bridge Rd., Autryville, 14000522

Wake County

Merrimon—Wynne House, 500 N. Blount St., Raleigh, 14000523

TEXAS

Culberson County

Butterfield Overland Mail Corridor, 400 Pine Canyon Rd., Salt Flat, 14000524

VIRGINIA

Botetourt County

Rader, George Washington, House, 8910 Lee Hwy., Fincastle, 14000525

Franklin County

Boones Mill Historic District, US 220, Maggodee Ln., Bethlehem, Dogwood Hill & Boones Mill Rds., Boon, Easy & Church Hill Sts., Boones Mill, 14000526

Lynchburg Independent City

Pierce Street Historic District, 1300-1400 blks. of Pierce, 1300 blk. Fillmore & Buchanan Sts., Lynchburg, 14000527

Montgomery County

Prices Fork Historic District (Boundary Increase), Prices Fork Rd., Blacksburg, 14000528

Norfolk Independent City

Norfolk Auto Row Historic District, Roughly bounded by E. 14th, Boush & Granby Sts., Monticello & W. Brambleton Aves., Norfolk, 14000529

Williamston—Woodland Historic District, Roughly bounded by NSRR, Church, 18th & Omohundro Sts., Norfolk, 14000530

Wythe County

Rural Retreat Depot, 105 Railroad Ave., Rural Retreat, 14000531

[FR Doc. 2014-18285 Filed 8-1-14; 8:45 am]

BILLING CODE 4312-51-P